DEPARTMENT OF ENERGY

Federal Energy Regulatory Commission

Combined Notice of Filings #1

Take notice that the Commission received the following electric corporate filings:

Docket Numbers: EC19-138-000.

Applicants: Valentine Solar, LLC, Glaciers Edge Wind Project, LLC, PGGM Coöperatie U.A.

Description: Application for Authorization Under Section 203 of the Federal Power, et al. Act of Valentine Solar, LLC, et al.

Filed Date: 9/11/19.

Accession Number: 20190911-5140.

Comments Due: 5 p.m. ET 10/2/19.

Take notice that the Commission received the following exempt wholesale generator filings:

Docket Numbers: EG19-182-000.

Applicants: Blue Summit III Wind, LLC.

Description: Notice of Self-Certification of Exempt Wholesale Generator Status of Blue Summit III Wind, LLC.

Filed Date: 9/12/19.

Accession Number: 20190912-5099.

Comments Due: 5 p.m. ET 10/3/19.

Take notice that the Commission received the following electric rate filings:

Docket Numbers: ER19-2405-000.

Applicants: Porterhouse Wind (4) LLC.

Description: Supplement to July 15, 2019 Porterhouse Wind (4) LLC tariff filing.

Filed Date: 9/12/19.

Accession Number: 20190912-5022.

Comments Due: 5 p.m. ET 9/23/19.

Docket Numbers: ER19-2460-000.

Applicants: DWW Solar II, LLC.

Description: Supplement to July 25, 2019 DWW Solar II, LLC tariff filing.

Filed Date: 9/12/19.

Accession Number: 20190912-5065.

Comments Due: 5 p.m. ET 9/26/19.

Docket Numbers: ER19-2787-000.

Applicants: California Independent System Operator Corporation.

Description: § 205(d) Rate Filing: 2019-09-11 Amendment No. 3 to Amended and Restated PLA with CDWR to be effective 11/1/2019.

Filed Date: 9/11/19.

Accession Number: 20190911-5118.

Comments Due: 5 p.m. ET 10/2/19.

Docket Numbers: ER19-2788-000.

Applicants: Emera Maine.

Description: § 205(d) Rate Filing: Interconnection Agreement with Liberty Utilities (Tinker Transmission) LP to be effective 9/10/2019.

Filed Date: 9/11/19.

Accession Number: 20190911-5130.

Comments Due: 5 p.m. ET 10/2/19.

Docket Numbers: ER19-2789-000.

Applicants: Public Service Company of Colorado.

Description: § 205(d) Rate Filing: PSCo MBR Tariff_EFF 10.31.19 to be effective 10/31/2019.

Filed Date: 9/12/19.

Accession Number: 20190912-5037.

Comments Due: 5 p.m. ET 10/3/19.

Docket Numbers: ER19-2790-000.

Applicants: LSP-Whitewater Limited Partnership.

Description: Baseline eTariff Filing: Market-Based Rate Application to be effective 11/12/2019.

Filed Date: 9/12/19.

Accession Number: 20190912-5075.

Comments Due: 5 p.m. ET 10/3/19.

Docket Numbers: ER19-2791-000.

Applicants: Midcontinent Independent System Operator, Inc., Otter Tail Power Company.

Description: § 205(d) Rate Filing: 2019-09-12_SA 3349 OTP-Deuel Harvest Wind FSA (J526) to be effective 11/12/2019.

Filed Date: 9/12/19.

Accession Number: 20190912-5074.

Comments Due: 5 p.m. ET 10/3/19.

Docket Numbers: ER19-2792-000.

Applicants: PJM Interconnection, L.L.C.

Description: § 205(d) Rate Filing: Original ISA SA No. 5472; Queue No AC1-204 and Cancellation of IISA No. 5373 to be effective 8/13/2019.

Filed Date: 9/12/19.

Accession Number: 20190912-5076.

Comments Due: 5 p.m. ET 10/3/19.

Docket Numbers: ER19-2793-000.

Applicants: Northern States Power Company, a Minnesota corporation, Northern States Power Company, a Wisconsin corporation.

Description: § 205(d) Rate Filing: 20190912_MBR_Tariff_Update to be effective 10/31/2019.

Filed Date: 9/12/19.

Accession Number: 20190912-5077.

Comments Due: 5 p.m. ET 10/3/19.

Docket Numbers: ER19-2794-000.

Applicants: Southern California Edison Company.

Description: § 205(d) Rate Filing: Certificate of Concurrence PacifiCorp WIUFMP to be effective 10/9/2019.

Filed Date: 9/12/19.

Accession Number: 20190912-5059.

Comments Due: 5 p.m. ET 10/3/19.

Docket Numbers: ER19-2795-000.

Applicants: Midcontinent Independent System Operator, Inc., Otter Tail Power Company.

Description: § 205(d) Rate Filing: 2019-09-12_SA 3350 OTP-Deuel Harvest Wind FSA (J526) Ortonville-Morris to be effective 11/12/2019.

Filed Date: 9/12/19.

Accession Number: 20190912-5063.

Comments Due: 5 p.m. ET 10/3/19.

Docket Numbers: ER19-2796-000.

Applicants: American Transmission Systems, Incorporated, PJM Interconnection, L.L.C.

Description: § 205(d) Rate Filing: ATSI submits Amended and Restated IA SA No. 4240 to be effective 11/11/2019.

Filed Date: 9/12/19.

Accession Number: 20190912-5088.

Comments Due: 5 p.m. ET 10/3/19.

Docket Numbers: ER19-2797-000.

Applicants: Midcontinent Independent System Operator, Inc., Otter Tail Power Company.

Description: § 205(d) Rate Filing: 2019-09-12_SA 3351 OTP-Flying Cow Wind FSA (J493) Ortonville-Morris to be effective 11/12/2019.

Filed Date: 9/12/19.

Accession Number: 20190912-5092.

Comments Due: 5 p.m. ET 10/3/19.

Docket Numbers: ER19-2798-000.

Applicants: Midcontinent Independent System Operator, Inc.

Description: § 205(d) Rate Filing: 2019-09-12_SA 3347 NSP-Nobles 2 Power Partners GIA (J512) to be effective 8/28/2019.

Filed Date: 9/12/19.

Accession Number: 20190912-5095.

Comments Due: 5 p.m. ET 10/3/19.

Docket Numbers: ER19-2799-000.

Applicants: Southwestern Public Service Company.

Description: § 205(d) Rate Filing: 2019-09-12_MBR_Tariff_Update to be effective 10/31/2019.

Filed Date: 9/12/19.

Accession Number: 20190912-5113.

Comments Due: 5 p.m. ET 10/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2019.
Kimberly D. Bose,
Secretary.

[FR Doc. 2019-20257 Filed 9-18-19; 8:45 am]

BILLING CODE 6717-01-P